DEPARTMENT OF COMMERCE

National Oceanic and Atmospheric Administration

50 CFR Part 679

[Docket No. 041126332-4332-01; I.D. 112204A]

Fisheries of the Exclusive Economic Zone off Alaska; Bering Sea and Aleutian Islands; 2005 and 2006 Proposed Harvest Specifications for Groundfish

AGENCY: National Marine Fisheries Service (NMFS), National Oceanic and Atmospheric Administration (NOAA), Commerce.

ACTION: 2005 and 2006 proposed harvest specifications for groundfish; request for comments.

SUMMARY: NMFS proposes 2005 and 2006 harvest specifications and prohibited species catch (PSC) allowances for the groundfish fishery of the Bering Sea and Aleutian Islands management area (BSAI). This action is necessary to establish harvest limits for groundfish during the 2005 and 2006 fishing years and to accomplish the goals and objectives of the Fishery Management Plan for Groundfish of the Bering Sea and Aleutian Islands Management Area (FMP). The intended effect of this action is to conserve and manage the groundfish resources in the BSAI in accordance with the Magnuson-Stevens Fishery Conservation and Management Act (Magnuson-Stevens Act).

DATES: Comments must be received by January 7, 2005.

ADDRESSES: Send comments to Sue Salveson, Assistant Regional Administrator, Sustainable Fisheries Division, Alaska Region, NMFS, Attn: Lori Durall. Comments may be submitted by:

• Mail to P.O. Box 21668, Juneau, AK 99802;

• Hand Delivery to the Federal Building, 709 West 9th Street, Room 420A, Juneau, AK;

• E-mail to 2005AKgroundfish.tacspecs@noaa.gov and include in the subject line of the e-mail comments the document identifier: 2005 Proposed Specifications (E-mail comments, with or without attachments, are limited to 5 megabytes);

• FAX to 907-586-7557; or

• Webform at the Federal eRulemaking Portal: www.regulations.gov. Follow the instructions at that site for submitting comments.

Copies of the draft Environmental Assessment/Initial Regulatory Flexibility Analysis (EA/IRFA) prepared for this action are available from NMFS at the addresses above or from the Alaska Region website at www.fakr.noaa.gov. Copies of the final 2003 Stock Assessment and Fishery Evaluation (SAFE) report for the groundfish resources of the BSAI, dated November 2003, are available from the North Pacific Fishery Management Council (Council), West 4th Avenue, Suite 306, Anchorage, AK 99510-2252 (907-271-2809), or from its website at www.fakr.noaa.gov/npfmc.

FOR FURTHER INFORMATION CONTACT: Mary Furuness, 907-586-7228, or e-mail at mary.furuness@noaa.gov.

SUPPLEMENTARY INFORMATION:

Background

Federal regulations at 50 CFR part 679 implement the FMP and govern the groundfish fisheries in the BSAI. The Council prepared the FMP and NMFS approved it under the Magnuson-Stevens Act. General regulations governing U.S. fisheries also appear at 50 CFR part 600.

The FMP and its implementing regulations require NMFS, after consultation with the Council, to specify annually the total allowable catch (TAC) for each target species and the “other species” category, the sum of which must be within the optimum yield range of 1.4 million to 2.0 million metric tons (mt) (see § 679.20(a)(1)(i)). Regulations at § 679.20(c)(1) further require NMFS to solicit public comment on proposed annual TACs and apportionments thereof, PSC allowances and prohibited species quota (PSQ) reserves established by § 679.21, seasonal allowances of pollock, Pacific cod and Atka mackerel TAC, including pollock Community Development Quota (CDQ), and CDQ reserve amounts established by § 679.20(b)(1)(iii) and to publish proposed harvest specifications in the Federal Register. The proposed harvest specifications set forth in Tables 1 through 13 of this action satisfy these requirements.

Under § 679.20(c)(3), NMFS will publish the final annual specifications for 2005 and 2006 after (1) considering comments received within the comment period (see DATES), (2) consulting with the Council at its next meeting beginning the week of December 6, 2004, and (3) considering new information presented in the EA and the final 2004 SAFE reports prepared for the 2005 and 2006 groundfish fisheries.

With some exceptions, regulations at § 679.20(c)(2)(ii) require that one-fourth of each proposed initial TAC (ITAC) amount and apportionment thereof, one-fourth of each CDQ reserve established under § 679.20(b)(1)(iii), and one-fourth of each proposed PSC allowance established under § 679.21 become available at 0001 hours, Alaska local time (A.l.t.), January 1, on an interim basis and remain in effect until superseded by the final harvest specifications. Regulations at § 679.20(c)(2)(ii)(A) and (B) require that the proposed first seasonal allowance of non-CDQ and CDQ pollock, Pacific cod, and Atka mackerel becomes available at 0001 hours, A.l.t., January 1, on an interim basis and remains in effect until superseded by the final harvest specifications. Regulations at § 679.20(c)(2)(ii) do not provide for an interim harvest specification for either the hook-and-line and pot gear sablefish CDQ reserve or for sablefish managed under the Individual Fishing Quota (IFQ) program. Interim harvest specifications and apportionments thereof for the 2005 fishing year will be published in a separate Federal Register notice.

Other Rules Affecting the 2005 and 2006 Harvest Specifications

Amendments 48/48 to the FMP and to the Fishery Management Plan for Groundfish of the Gulf of Alaska (GOA) were unanimously recommended by the Council in October 2003 and approved by NMFS on October 12, 2004. The final rule implementing Amendments 48/48 was published November 8, 2004, (69 FR 64683). Amendments 48/48 revise the administrative process used to establish annual specifications for the groundfish fisheries of the GOA and the BSAI. The goals of Amendments 48/48 in revising the harvest specifications process are to (1) manage fisheries based on the best scientific information available, (2) provide for adequate prior public review and comment on Council recommendations, (3) provide for additional opportunity for Secretarial review, (4) minimize unnecessary disruption to fisheries and public confusion, and (5) promote administrative efficiency.

Based on the approval of Amendments 48/48, the Council recommended 2005 and 2006 proposed harvest specifications for BSAI groundfish. These proposed harvest specifications are based on the 2003 SAFE report. In November 2004, the 2004 SAFE report will be used to develop the final 2005 and 2006 groundfish acceptable biological catch amounts (ABC). When possible, this proposed rule will identify any proposal that may be anticipated to change in the final specifications. The 2006 harvest specification will be updated in early 2006, when final harvest specifications for 2006 and new harvest specification for 2007 are implemented.

In June 2004, the Council adopted Amendment 82 to the FMP. This amendment would establish a framework for management of the Aleutian Islands (AI) directed pollock fishery. If approved by NMFS, this amendment would be implemented after the commencement of the 2005 fishing year. Section 803 of the Consolidated Appropriations Act of 2004 (CAA), Pub. L. No. 108-199, requires the AI directed pollock fishery to be allocated to the Aleut Corporation for economic development of Adak, Alaska. Prior to the CAA, the AI directed pollock fishery was managed pursuant to the American Fisheries Act (AFA), Pub. L. No. 105-277, Title II of Division C. The AFA allocated the AI directed pollock fishery to specific harvesters and processors named in the AFA. The CAA supersedes that portion of the AFA. Together, the CAA and the AFA effectively allocate the AI directed pollock fishery to the Aleut Corporation after subtraction of the CDQ directed fishing allowance and incidental catch allowance (ICA) from the pollock TAC. The implementation of section 803 of the CAA requires amending AFA provisions in the FMP and in the regulations at 50 CFR part 679. This would be accomplished by Amendment 82, if it is approved.

Until a decision is made on whether to approve Amendment 82, NMFS will prohibit the non-CDQ AI directed pollock fishery in the interim and final harvest specifications for 2005 and 2006 based on the statutory language of section 803 of the CAA. The AI pollock TAC recommended by the Council under the provisions of proposed Amendment 82 will be included in the 2005 and 2006 proposed, interim, and final harvest specifications to allow the Administrator, Alaska Region, NMFS (Regional Administrator), to open the AI directed pollock fishery if and when the regulations for Amendment 82 are effective. As stated above, this prohibition is authorized by section 803 of the CAA, which requires that only those who are selected by the Aleut Corporation and approved by NMFS may participate in the non-CDQ AI directed pollock fishery. For additional information, see the November 16, 2004, notice of availability (69 FR 67107) and the December 7, 2004, proposed rule for Amendment 82.

The Council recommended an upper limit for the AI pollock TAC equal to 19,000 mt, except that when the AI pollock ABC is less than 19,000 mt, AI pollock TAC shall be no more than 40 percent of the Allowable Biological Catch (ABC). The directed pollock fishery allocation to the Aleut Corporation would be seasonally apportioned. The Council also adopted a chinook salmon bycatch limit for the AI directed pollock fishery. Tables 1 and 2 list the 2005 and 2006 proposed allocations and seasonal apportionments of the AI pollock TAC based on regulations that would implement Amendment 82, if it is approved.

Other actions that may affect the 2005 and 2006 harvest specifications are based on recommendations from the Council's Plan Team. The Council may consider apportionment of the Pacific cod ABC or TAC by Bering Sea subarea and AI subarea separately instead of by the full BSAI management area. Also, the Council may consider separating some rockfish species from the “other rockfish” species category.

Proposed ABC and TAC Harvest Specifications

The proposed ABC levels are based on the best available biological and socioeconomic information, including projected biomass trends, information on assumed distribution of stock biomass, and revised technical methods used to calculate stock biomass. In general, the development of ABCs and overfishing levels (OFLs) involves sophisticated statistical analyses of fish populations and is based on a successive series of six levels, or tiers, of reliable information available to fishery scientists. Tier one represents the highest data quality and tier six the lowest level of data quality available.

The best information currently available is set forth in Appendix A to the final SAFE report for the 2004 BSAI groundfish fisheries dated November 2003 (see ADDRESSES). Information on the status of stocks will be updated with the 2004 survey results and reconsidered by the Plan Team in November 2004 for the 2004 SAFE report. The final harvest specifications will be based on the 2004 SAFE report.

In October 2004, the Scientific and Statistical Committee (SSC) and the Council reviewed the Plan Team's preliminary projections for 2004 biomass amounts, as presented in the 2003 SAFE report, as the basis for the 2005 and 2006 proposed ABC, OFL, and TAC amounts. Due to time constraints, the Council's Advisory Panel did not provide recommendations for the proposed harvest specifications. The SSC concurred with the Plan Team's recommendations, which estimate the 2005 and 2006 proposed ABCs and OFLs by using a projection of 2004 and 2005 groundfish harvest with the November 2003 SAFE report model projections of 2004 ABCs for groundfish stocks managed at tiers 1-3. The Council adopted the OFL and ABC amounts recommended by the SSC (Table 1), except for Atka mackerel. The Council recommended using the 2004 OFL and ABC amounts for Atka mackerel based on survey data that became available October 8, 2004, instead of using the projected amounts for 2005 and 2006. The Council recommended that the 2005 and 2006 proposed TACs be set equal to the 2004 TACs, except for minor decreases for sablefish and Pacific ocean perch and minor increases in 2005 for Pacific cod and rock sole based on preliminary data evaluated by the Plan Team. The Council also recommended an AI pollock TAC to support a directed pollock fishery, pending approval of Amendment 82. The Council recommended using the 2004 PSC allowances for the 2005 and 2006 proposed allowances. The Council will reconsider the OFL, ABC, TAC, and PSC amounts in December 2004 after the Plan Team incorporates new status of stocks information into a final 2004 SAFE report, for the 2005 and 2006 BSAI groundfish fishery. None of the Council's recommended proposed TACs for 2005 or 2006 exceed the recommended 2005 or 2006 proposed ABC for any species category. NMFS finds the Council's recommended proposed 2005 and 2006 OFLs, ABCs, and TACs are consistent with the best available information on the biological condition of the groundfish stocks.

Table 1 lists the 2005 and 2006 proposed OFL, ABC, and TAC, ITAC and CDQ amounts for groundfish in the BSAI. The proposed apportionment of TAC amounts among fisheries and seasons is discussed below.

TABLE 1—2005 AND 2006 PROPOSED OVERFISHING LEVEL (OFL), ACCEPTABLE BIOLOGICAL CATCH (ABC), TOTAL ALLOWABLE CATCH (TAC), INITIAL TAC (ITAC), AND CDQ RESERVE ALLOCATION OF GROUNDFISH IN THE BSAI¹
[Amounts are in metric tons]
Species | Area | 2005: OFL | 2005: ABC | 2005: TAC | 2005: ITAC² | 2005: CDQ³ | 2006: OFL | 2006: ABC | 2006: TAC | 2006: ITAC² | 2006: CDQ³
Pollock⁴ | BS² | 2,909,800 | 2,363,000 | 1,474,450 | 1,327,005 | 147,445 | 2,542,900 | 2,087,800 | 1,474,000 | 1,326,600 | 147,400
| AI² | 52,600 | 39,400 | 19,000 | 17,100 | 1,900 | 52,600 | 39,400 | 19,000 | 17,100 | 1,900
| Bogoslof | 39,600 | 2,570 | 50 | 50 | ...... | 39,600 | 2,570 | 50 | 50 | ......
Pacific cod | BSAI | 352,500 | 225,500 | 215,952 | 183,559 | 16,196 | 344,700 | 220,500 | 215,500 | 183,175 | 16,163
Sablefish⁵ | BS | 3,432 | 2,418 | 2,418 | 1,028 | 332 | 3,184 | 2,244 | 2,244 | 954 | 84
| AI | 3,960 | 2,790 | 2,790 | 592 | 471 | 3,674 | 2,589 | 2,589 | 550 | 49
Atka mackerel | BSAI | 78,500 | 66,700 | 63,000 | 53,550 | 4,725 | 78,500 | 66,700 | 63,000 | 53,550 | 4,725
| WAI | ...... | 24,360 | 20,660 | 17,561 | 1,550 | ...... | 24,360 | 20,660 | 17,561 | 1,550
| CAI | ...... | 31,100 | 31,100 | 26,435 | 2,333 | ...... | 31,100 | 31,100 | 26,435 | 2,333
| EAI/BS | ...... | 11,240 | 11,240 | 9,554 | 843 | ...... | 11,240 | 11,240 | 9,554 | 843
Yellowfin sole | BSAI | 129,710 | 109,300 | 86,075 | 73,164 | 6,456 | 124,900 | 105,250 | 86,075 | 73,164 | 6,456
Rock sole | BSAI | 153,290 | 128,370 | 41,450 | 35,233 | 3,109 | 136,240 | 114,060 | 41,000 | 34,850 | 3,075
Greenland turbot | BSAI | 17,740 | 11,230 | 3,500 | 2,975 | 263 | 16,490 | 10,430 | 3,500 | 2,975 | 263
| BS | ...... | 7,524 | 2,700 | 2,295 | 203 | ...... | 6,988 | 2,700 | 2,295 | 203
| AI | ...... | 3,706 | 800 | 680 | 60 | ...... | 3,442 | 800 | 680 | 60
Arrowtooth flounder | BSAI | 144,990 | 96,140 | 12,000 | 10,200 | 900 | 145,480 | 96,300 | 12,000 | 10,200 | 900
Flathead sole | BSAI | 69,100 | 56,860 | 19,000 | 16,150 | 1,425 | 64,870 | 53,380 | 19,000 | 16,150 | 1,425
Other flatfish⁶ | BSAI | 18,100 | 13,500 | 3,000 | 2,550 | 225 | 18,100 | 13,500 | 3,000 | 2,550 | 225
Alaska plaice | BSAI | 254,970 | 159,040 | 10,000 | 8,500 | 750 | 255,220 | 159,230 | 10,000 | 8,500 | 750
Pacific ocean perch | BSAI | 15,790 | 12,020 | 12,020 | 10,217 | 902 | 15,990 | 12,170 | 12,170 | 10,345 | 913
| BS | ...... | 1,923 | 1,923 | 1,635 | 144 | ...... | 1,947 | 1,947 | 1,655 | 146
| WAI | ...... | 4,655 | 4,655 | 3,957 | 349 | ...... | 4,713 | 4,713 | 4,006 | 353
| CAI | ...... | 2,655 | 2,655 | 2,257 | 199 | ...... | 2,689 | 2,689 | 2,286 | 202
| EAI | ...... | 2,787 | 2,787 | 2,369 | 209 | ...... | 2,821 | 2,821 | 2,398 | 212
Northern | BSAI | 7,900 | 6,030 | 5,000 | 4,250 | 375 | 7,670 | 5,850 | 5,000 | 4,250 | 375
Shortraker | BSAI | 701 | 526 | 526 | 447 | 39 | 701 | 526 | 526 | 447 | 39
Rougheye | BSAI | 259 | 195 | 195 | 166 | 15 | 259 | 195 | 195 | 166 | 15
Other rockfish⁷ | BS | 1,280 | 960 | 460 | 391 | 35 | 1,280 | 960 | 460 | 391 | 35
| AI | 846 | 634 | 634 | 539 | 48 | 846 | 634 | 634 | 539 | 48
Squid | BSAI | 2,620 | 1,970 | 1,275 | 1,084 | ...... | 2,620 | 1,970 | 1,275 | 1,084 | ......
Other species⁸ | BSAI | 81,150 | 46,810 | 27,205 | 23,124 | 2,040 | 81,150 | 46,810 | 27,205 | 23,124 | 2,040
TOTAL | 4,338,838 | 3,345,963 | 2,000,000 | 1,771,874 | 187,651 | 3,936,974 | 3,043,068 | 1,998,423 | 1,770,714 | 186,881
¹These amounts apply to the entire BSAI management area unless otherwise specified. With the exception of pollock, and for the purpose of these harvest specifications, the Bering Sea (BS) subarea includes the Bogoslof District.
²Except for pollock and the portion of the sablefish TAC allocated to hook-and-line and pot gear, 15 percent of each TAC is put into a reserve. The ITAC for each species is the remainder of the TAC after the subtraction of these reserves.
³Except for pollock, squid and the hook-and-line or pot gear allocation of sablefish, one half of the amount of the TACs placed in reserve, or 7.5 percent of the TACs, is designated as a CDQ reserve for use by CDQ participants (see §§ 679.20(b)(1)(iii) and 679.31).
⁴Under § 679.20(a)(5)(i)(A)(1), the annual Bering Sea pollock TAC after subtraction for the CDQ directed fishing allowance - 10 percent and the ICA - 3 percent, is further allocated by sector for a directed pollock fishery as follows: inshore - 50 percent; catcher/processor - 40 percent; and motherships - 10 percent. Pending approval of Amendment 82, the annual AI pollock TAC, after subtraction for the CDQ directed fishing allowance - 10 percent and the ICA - 2,000 mt, would be allocated to the Aleut Corporation for a directed pollock fishery.
⁵The ITAC for sablefish reflected in Table 1 is for trawl gear only. Regulations at § 679.20(b)(1) do not provide for the establishment of an ITAC for the hook-and-line and pot gear allocation for sablefish. Twenty percent of the sablefish TAC allocated to hook-and-line gear or pot gear and 7.5 percent of the sablefish TAC allocated to trawl gear is reserved for use by CDQ participants (see § 679.20(b)(1)(iii)).
⁶“Other flatfish” includes all flatfish species, except for halibut (a prohibited species), flathead sole, Greenland turbot, rock sole, yellowfin sole, arrowtooth flounder and Alaska plaice.
⁷“Other rockfish” includes all Sebastes and Sebastolobus species except for Pacific ocean perch, northern, shortraker, and rougheye rockfish.
⁸“Other species” includes sculpins, sharks, skates and octopus. Forage fish, as defined at § 679.2, are not included in the “other species” category.

Reserves and the ICA for Pollock

Regulations at § 679.20(b)(1)(i) require that 15 percent of the TAC for each target species or species group, except for pollock and the hook-and-line and pot gear allocation of sablefish, be placed in a non-specified reserve. Regulations at § 679.20(b)(1)(iii) require that one half of each TAC amount placed in the non-specified reserve (7.5 percent), with the exception of squid, be allocated to the groundfish CDQ reserve and that 20 percent of the hook-and-line and pot gear allocation of sablefish be allocated to the fixed gear sablefish CDQ reserve. Regulations at §§ 679.20(a)(5)(i)(A) and 679.31(a)(2) also require that 10 percent of the Bering Sea and Aleutian Islands pollock TAC be allocated to the pollock CDQ directed fishing allowance. The entire Bogoslof District pollock TAC is allocated as an ICA (see § 679.20(a)(5)(ii)). With the exception of the hook-and-line and pot gear sablefish CDQ reserve, the regulations do not further apportion the CDQ reserves by gear. Regulations at § 679.21(e)(1)(i) also require that 7.5 percent of each PSC limit, with the exception of herring, be withheld as a PSQ reserve for the CDQ fisheries. Regulations governing the management of the CDQ and PSQ reserves are set forth at §§ 679.30 and 679.31.

Under regulations at § 679.20(a)(5)(i)(A)(1), NMFS allocates a pollock ICA of 3 percent of the Bering Sea pollock TAC after subtraction of the 10 percent CDQ reserve. This allowance is based on an examination of the incidental catch of pollock in target fisheries other than pollock from 1998 through 2003. During this 6-year period, the incidental catch of pollock ranged from a low of 2 percent in 2003 to a high of 5 percent in 1999, with a 6-year average of 3 percent. Because these incidental percentages are contingent on the relative amounts of other groundfish TACs, NMFS will be better able to assess the ICA amount when the Council makes final ABC and TAC amount recommendations in December. Under regulations that would be effective with the final rule implementing Amendment 82, NMFS recommends setting a 2,000 mt ICA for AI subarea pollock after a subtraction of the 10 percent CDQ directed fishing allowance. The Aleut Corporation's directed pollock fishery will be closed until regulations implementing Amendment 82 (if approved) become effective.

The regulations do not designate the remainder of the non-specified reserve by species or species group, and any amount of the reserve may be reapportioned to a target species or the “other species” category during the year, providing that such reapportionments do not result in overfishing, see § 679.20(b)(1)(ii).

Allocations of Pollock TAC Under the AFA

Regulations at § 679.20(a)(5)(i)(A) require that 10 percent of the Bering Sea subarea pollock TAC be allocated as a directed fishing allowance to the CDQ program. The remainder of the Bering Sea subarea pollock TAC, after the subtraction of an allowance (3 percent) for the incidental catch of pollock by vessels, including CDQ vessels, catching other groundfish species, is allocated as follows: 50 percent to AFA catcher vessels harvesting pollock for processing by the inshore component, 40 percent to AFA catcher/processors and catcher vessels harvesting pollock for processing by catcher/processors in the offshore component, and 10 percent to catcher vessels harvesting pollock for processing by AFA motherships. Table 2 lists these 2005 and 2006 proposed amounts.

The regulations also contain several specific requirements concerning pollock and pollock allocations under § 679.20(a)(5)(i)(A)(4). First, 8.5 percent of the pollock allocated to the catcher/processor sector will be available for harvest by AFA catcher vessels with catcher/processor sector endorsements, unless the Regional Administrator receives a cooperative contract that provides for the distribution of harvest between AFA catcher/processors and AFA catcher vessels in a manner agreed to by all members. Second, AFA catcher/processors not listed in the AFA are limited to harvesting not more than 0.5 percent of the pollock allocated to the catcher/processor sector. Table 2 lists the 2005 and 2006 proposed allocations of pollock TAC. Tables 8 through 13 list other provisions of the AFA, including inshore pollock cooperative allocations and listed catcher/processor and catcher vessel harvesting sideboard limits.

Table 2 also lists seasonal apportionments of pollock and harvest limits within the Steller Sea Lion Conservation Area (SCA). The harvest within the SCA, as defined at § 679.22(a)(7)(vii), is limited to 28 percent of the annual directed fishing allowance (DFA) until April 1. The remaining 12 percent of the 40 percent of the annual DFA allocated to the A season may be taken outside of the SCA before April 1 or inside the SCA after April 1. If the 28 percent of the annual DFA is not taken inside the SCA before April 1, the remainder will be available to be taken inside the SCA after April 1. The A season pollock SCA harvest limit will be apportioned to each sector in proportion to each sector's allocated percentage of the DFA. Table 2 lists by sector these 2005 and 2006 proposed amounts.

TABLE 2—2005 AND 2006 PROPOSED ALLOCATIONS OF POLLOCK TACS TO THE DIRECTED POLLOCK FISHERIES AND TO THE CDQ DIRECTED FISHING ALLOWANCES (DFA)¹
[Amounts are in metric tons]
Area and sector | 2005 allocations | 2005 A season¹: A season DFA | 2005 A season¹: SCA harvest limit² | 2005 B season¹: B season DFA | 2006 allocations | 2006 A season¹: A season DFA | 2006 A season¹: SCA harvest limit² | 2006 B season: B season DFA
Bering Sea subarea | 1,474,450 | ...... | ...... | ...... | 1,474,000 | ...... | ...... | ......
CDQ DFA | 147,445 | 58,978 | 41,285 | 88,467 | 147,400 | 58,960 | 41,272 | 88,440
ICA¹ | 46,445 | ...... | ...... | ...... | 46,431 | ...... | ...... | ......
AFA Inshore | 640,280 | 256,112 | 179,278 | 384,168 | 640,085 | 256,034 | 179,224 | 384,051
AFA Catcher/Processors³ | 512,224 | 204,890 | 143,423 | 307,334 | 512,068 | 204,827 | 143,379 | 307,241
Catch by C/Ps | 468,685 | 187,474 | ...... | 281,211 | 468,542 | 187,417 | ...... | 281,125
Catch by CVs³ | 43,539 | 17,416 | ...... | 26,123 | 43,526 | 17,410 | ...... | 26,115
Unlisted C/P Limit⁴ | 2,561 | 1,024 | ...... | 1,537 | 2,560 | 1,024 | ...... | 1,536
AFA Motherships | 128,056 | 51,222 | 35,856 | 76,834 | 128,017 | 51,207 | 35,845 | 76,810
Excessive Harvesting Limit⁵ | 224,098 | ...... | ...... | ...... | 224,030 | ...... | ...... | ......
Excessive Processing Limit⁶ | 384,168 | ...... | ...... | ...... | 384,051 | ...... | ...... | ......
Total Bering Sea DFA | 1,474,450 | 571,202 | 399,841 | 856,803 | 1,474,000 | 571,028 | 399,719 | 856,541
Aleutian Islands subarea¹ | 19,000 | ...... | ...... | ...... | 19,000 | ...... | ...... | ......
CDQ DFA | 1,900 | 760 | ...... | 1,140 | 1,900 | 760 | ...... | 1,140
ICA | 2,000 | 1,200 | ...... | 800 | 2,000 | 1,200 | ...... | 800
Aleut Corporation | 15,100 | 13,800 | ...... | 1,300 | 15,100 | 13,640 | ...... | 1,460
Bogoslof District ICA⁷ | 50 | ...... | ...... | ...... | 50 | ...... | ...... | ......
¹Under § 679.20(a)(5)(i)(A), the Bering Sea subarea pollock after subtraction for the CDQ DFA - 10 percent and the ICA - 3 percent, the pollock TAC is allocated as a DFA as follows: inshore component - 50 percent, catcher/processor component - 40 percent, and mothership component - 10 percent. In the Bering Sea subarea, the A season, January 20 - June 10, is allocated 40 percent of the DFA and the B season, June 10 - November 1 is allocated 60 percent of the DFA. The Aleutian Islands (AI) AI directed pollock fishery allocation to the Aleut Corporation remains after subtraction for the CDQ DFA - 10 percent and the ICA - 2,000 mt. The Aleut Corporation directed pollock fishery is closed to directed fishing until the management provisions for the AI directed pollock fishery become effective under Amendment 82. In the AI subarea, the A season is allocated 40 percent of the ABC and the B season is allocated the remainder of the directed pollock fishery.
²In the Bering Sea subarea, no more than 28 percent of each sector's annual DFA may be taken from the SCA before April 1. The remaining 12 percent of the annual DFA allocated to the A season may be taken outside of SCA before April 1 or inside the SCA after April 1. If 28 percent of the annual DFA is not taken inside the SCA before April 1, the remainder is available to be taken inside the SCA after April 1.
³Under § 679.20(a)(5)(i)(A)(4), not less than 8.5 percent of the DFA allocated to listed catcher/processors shall be available for harvest only by eligible catcher vessels delivering to listed catcher/processors.
⁴Under § 679.20(a)(5)(i)(A)(4)(iii), the AFA unlisted catcher/processors are limited to harvesting not more than 0.5 percent of the catcher/processors sector's allocation of pollock.
⁵Under § 679.20(a)(5)(i)(A)(6) NMFS establishes an excessive harvesting share limit equal to 17.5 percent of the sum of the pollock DFAs.
⁶Under § 679.20(a)(5)(i)(A)(7) NMFS establishes an excessive processing share limit equal to 30.0 percent of the sum of the pollock DFAs.
⁷The Bogoslof District is closed by the proposed harvest specifications to directed fishing for pollock. The amounts specified are for ICA only, and are not apportioned by season or sector.

Allocation of the Atka Mackerel TAC

Under § 679.20(a)(8)(i), up to 2 percent of the Eastern Aleutian District and the Bering Sea subarea Atka mackerel ITAC may be allocated to jig gear. The amount of this allocation is determined annually by the Council based on several criteria, including the anticipated harvest capacity of the jig gear fleet. The Council recommended and NMFS proposes that 1 percent of the Atka mackerel ITAC in the Eastern Aleutian District and the Bering Sea subarea be allocated to jig gear in 2005 and 2006. Based on an ITAC of 9,554 mt, the jig gear allocation is 96 mt for 2005 and 2006.

Regulations at § 679.20(a)(8)(ii)(A) apportion the Atka mackerel ITAC into two equal seasonal allowances. After subtraction of the jig gear allocation, the first allowance is made available for directed fishing from January 1 (January 20 for trawl gear) to April 15 (A season), and the second seasonal allowance is made available from September 1 to November 1 (B season) (Table 3).

Under § 679.20(a)(8)(ii)(C)(1), the Regional Administrator will establish a harvest limit area (HLA) limit of no more than 60 percent of the seasonal TAC for the Western and Central Aleutian Districts. A lottery system is used for the HLA Atka mackerel directed fisheries to reduce the amount of daily catch in the HLA by about half and to disperse the fishery over two districts, see § 679.20(a)(8)(iii).

TABLE 3—2005 AND 2006 PROPOSED SEASONAL AND SPATIAL ALLOWANCES, GEAR SHARES, AND CDQ RESERVE OF THE BSAI ATKA MACKEREL TAC¹
[Amounts are in metric tons]
Subarea and component | 2005 and 2006 TAC | CDQ reserve | CDQ reserve HLA limit⁴ | ITAC | Seasonal allowances²: A season³: Total | Seasonal allowances²: A season³: HLA limit⁴ | Seasonal allowances²: B season³: Total | Seasonal allowances²: B season³: HLA limit⁴
Western AI District | 20,660 | 1,550 | 930 | 17,561 | 8,781 | 5,268 | 8,781 | 5,268
Central AI District | 31,100 | 2,333 | 1,400 | 26,435 | 13,218 | 7,931 | 13,218 | 7,931
EAI/BS subarea⁵ | 11,240 | 843 | ...... | 9,554 | ...... | ...... | ...... | ......
Jig (1%)⁶ | ...... | ...... | ...... | 96 | ...... | ...... | ...... | ......
Other gear (99%) | ...... | ...... | ...... | 9,458 | 4,729 | ...... | 4,729 | ......
Total | 63,000 | 4,725 | ...... | 53,550 | 26,727 | ...... | 26,727 | ......
¹Regulations at §§ 679.20(a)(8)(ii) and 679.22(a) establish temporal and spatial limitations for the Atka mackerel fishery.
²The seasonal allowances of Atka mackerel are 50 percent in the A season and 50 percent in the B season.
³The A season is January 1 (January 20 for trawl gear) to April 15 and the B season is September 1 to November 1.
⁴Harvest Limit Area (HLA) limit refers to the amount of each seasonal allowance that is available for fishing inside the HLA (see § 679.2). In 2005 and 2006, 60 percent of each seasonal allowance is available for fishing inside the HLA in the Western and Central Aleutian Districts.
⁵Eastern Aleutian District and the Bering Sea subarea.
⁶Regulations at § 679.20 (a)(8)(i) require that up to 2 percent of the Eastern Aleutian District and the Bering Sea subarea ITAC be allocated to jig gear. The proposed amount of this allocation is 1 percent. The jig gear allocation is not apportioned by season.

Allocation of the Pacific Cod TAC

Under § 679.20(a)(7)(i)(A), 2 percent of the Pacific cod ITAC is allocated to vessels using jig gear, 51 percent to vessels using hook-and-line or pot gear, and 47 percent to vessels using trawl gear. Under regulations at § 679.20(a)(7)(i)(B), the portion of the Pacific cod TAC allocated to trawl gear is further allocated 50 percent to catcher vessels and 50 percent to catcher/processors. Under regulations at § 679.20(a)(7)(i)(C)(1), a portion of the Pacific cod TAC allocated to hook-and-line or pot gear is set aside as an ICA of Pacific cod in directed fisheries for groundfish using these gear types. Based on anticipated incidental catch in these fisheries, NMFS proposes an ICA of 500 mt. The remainder of Pacific cod is further allocated to vessels using hook-and-line or pot gear as the following DFAs: 80 percent to hook-and-line catcher/processors, 0.3 percent to hook-and-line catcher vessels, 3.3 percent to pot catcher processors, 15 percent to pot catcher vessels, and 1.4 percent to catcher vessels under 60 feet (18.3 m) length overall (LOA) using hook-and-line or pot gear.

Due to concerns about the potential impact of the Pacific cod fishery on Steller sea lions and their critical habitat, the apportionment of the ITAC disperses the Pacific cod fisheries into seasonal allowances (see §§ 679.20(a)(7)(iii)(A) and 679.23(e)(5)). For most hook-and-line and pot gear, the first seasonal allowance of 60 percent of the ITAC is made available for directed fishing from January 1 to June 10, and the second seasonal allowance of 40 percent of the ITAC is made available from June 10 (September 1 for pot gear) to December 31. No seasonal harvest constraints are imposed on the Pacific cod fishery by catcher vessels less than 60 feet (18.3 m) LOA using hook-and-line or pot gear. For trawl gear, the first season is January 20 to April 1 and is allocated 60 percent of the ITAC. The second season, April 1 to June 10, and the third season, June 10 to November 1, are each allocated 20 percent of the ITAC. The trawl catcher vessel allocation is further allocated as 70 percent in the first season, 10 percent in the second season, and 20 percent in the third season. The trawl catcher/processor allocation is allocated 50 percent in the first season, 30 percent in the second season, and 20 percent in the third season. For jig gear, the first and third seasonal allowances are each allocated 40 percent of the ITAC and the second seasonal allowance is allocated 20 percent of the ITAC. Table 4 lists the 2005 and 2006 proposed allocations and seasonal apportionments of the Pacific cod ITAC. In accordance with §§ 679.20(a)(7)(ii)(D) and 679.20(a)(7)(iii)(B), any unused portion of a seasonal Pacific cod allowance will become available at the beginning of the next seasonal allowance.

TABLE 4—2005 AND 2006 PROPOSED GEAR SHARES AND SEASONAL ALLOWANCES OF THE BSAI PACIFIC COD TAC
Gear Sector | Percent | 2005 Share of gear sector total | 2005 Subtotal percentages for gear sectors | 2005 Share of gear sector total | 2005 Seasonal apportionment¹: Date | 2005 Seasonal apportionment¹: Amount | 2006 Share of gear sector total | 2006 Subtotal percentages for gear sectors | 2006 Share of gear sector total | 2006 Seasonal apportionment¹: Date | 2006 Seasonal apportionment¹: Amount
Total hook-and-line/pot gear | 51 | 93,615 | ...... | ...... | ...... | ...... | 93,419 | ...... | ...... | ...... | ......
Hook-and-line/pot ICA | ...... | ...... | ...... | 500 | ...... | ...... | ...... | ...... | 500 | ...... | ......
Hook-and-line/pot sub-total | ...... | 93,115 | ...... | ...... | ...... | ...... | 92,919 | ...... | ...... | ...... | ......
Hook-and-line C/P | ...... | ...... | 80 | 74,492 | Jan 1 - Jun 10 | 44,695 | ...... | 80 | 74,335 | Jan 1 - Jun 10 | 44,601
|  |  |  |  | Jun 10 - Dec 31 | 29,797 |  |  |  | Jun 10 - Dec 31 | 29,734
Hook-and-line CV | ...... | ...... | 0.3 | 279 | Jan 1 - Jun 10 | 167 | ...... | 0.3 | 279 | Jan 1-Jun 10 | 167
|  |  |  |  | Jun 10 - Dec 31 | 112 |  |  |  | Jun 10 - Dec 31 | 112
Pot C/P | ...... | ...... | 3.3 | 3,073 | Jan 1 - Jun 10 | 1,844 | ...... | 3.3 | 3,066 | Jan 1 - Jun 10 | 1,840
|  |  |  |  | Sept 1 - Dec 31 | 1,229 |  |  |  | Sept 1 - Dec 31 | 1,226
Pot CV | ...... | ...... | 15 | 13,967 | Jan 1 - Jun 10 | 8,380 | ...... | 15 | 13,938 | Jan 1 - Jun 10 | 8,363
|  |  |  |  | Sept 1 - Dec 31 | 5,587 |  |  |  | Sept 1 - Dec 31 | 5,575
CV < 60 feet LOA using Hook-and-line or Pot gear | ...... | ...... | 1.4 | 1,304 | ...... | ...... | ...... | 1.4 | 1,301 | ...... | ......
Total Trawl Gear | 47 | 86,273 | ...... | ...... | ...... | ...... | 86,092 | ...... | ...... | ...... | ......
Trawl CV |  |  | 50 | 43,136 | Jan 20 - Apr 1 | 30,195 |  | 50 | 43,046 | Jan 20 - Apr 1 | 30,132
|  |  |  | ...... | Apr 1 - Jun 10 | 4,314 |  |  | ...... | Apr 1 - Jun 10 | 4,305
|  |  |  | ...... | Jun 10 - Nov 1 | 8,627 |  |  | ...... | Jun 10 - Nov 1 | 8,609
Trawl CP |  |  | 50 | 43,136 | Jan 20 - Apr 1 | 21,568 |  | 50 | 43,046 | Jan 20 - Apr 1 | 21,523
|  |  |  | ...... | Apr 1 - Jun 10 | 12,941 |  |  | ...... | Apr 1 - Jun 10 | 12,914
|  |  |  | ...... | Jun 10 - Nov 1 | 8,627 |  |  | ...... | Jun 10 - Nov 1 | 8,609
Jig | 2 | 3,671 | ...... | ...... | Jan 1 - Apr 30 | 1,468 | 3,664 | ...... | ...... | Jan 1 - Apr 30 | 1,465
|  |  | ...... | ...... | Apr 30 - Aug 31 | 734 |  | ...... | ...... | Apr 30 - Aug 31 | 733
|  |  | ...... | ...... | Aug 31 - Dec 31 | 1,469 |  | ...... | ...... | Aug 31 - Dec 31 | 1,466
Total | 100 | 183,559 | ...... | ...... | ...... | ...... | 183,175 | ...... | ...... | ...... | ......
¹For most non-trawl gear the first season is allocated 60 percent of the ITAC and the second season is allocated 40 percent of the ITAC. For jig gear, the first season and third seasons are each allocated 40 percent of the ITAC and the second season is allocated 20 percent of the ITAC. No seasonal harvest constraints are imposed for the Pacific cod fishery by catcher vessels less than 60 feet (18.3 m) LOA using hook-and-line or pot gear. For trawl gear, the first season is allocated 60 percent of the ITAC and the second and third seasons are each allocated 20 percent of the ITAC. The trawl catcher vessels' allocation is further allocated as 70 percent in the first season, 10 percent in the second season and 20 percent in the third season. The trawl catcher/processors' allocation is allocated 50 percent in the first season, 30 percent in the second season and 20 percent in the third season. Any unused portion of a seasonal Pacific cod allowance will be reapportioned to the next seasonal allowance.

Sablefish Gear Allocation

Regulations at § 679.20(a)(4)(iii) and (iv) require that sablefish TACs for the Bering Sea and AI subareas be allocated between trawl and hook-and-line or pot gear. Gear allocations of the TACs for the Bering Sea subarea are 50 percent for trawl gear and 50 percent for hook-and-line or pot gear and for the AI subarea are 25 percent for trawl gear and 75 percent for hook-and-line or pot gear. Regulations at § 679.20(b)(1)(iii)(B) require that 20 percent of the hook-and-line and pot gear allocation of sablefish be apportioned to the CDQ reserve. Additionally, regulations at § 679.20(b)(1)(iii)(A) require that 7.5 percent of the trawl gear allocation of sablefish (one half of the reserve) be apportioned to the CDQ reserve. Under regulations implementing Amendments 48/48, the harvest specifications for the hook-and-line gear and pot gear sablefish IFQ fisheries will be limited to the 2005 fishing year to ensure those fisheries are conducted concurrent with the halibut IFQ fishery. Having sablefish IFQ fisheries concurrent with the halibut IFQ fishery would reduce the potential for discards of halibut and sablefish in these fisheries. The sablefish IFQ fisheries would remain closed at the beginning of each fishing year until the final harvest specifications for the sablefish IFQ fisheries are in effect. The trawl sablefish fishery would be managed using harvest specifications for a 2-year period concurrent with the remaining target species in the BSAI. Table 5 specifies the 2005 and 2006 proposed gear allocations of the sablefish TAC and CDQ reserve amounts.

TABLE 5—2005 AND 2006 PROPOSED GEAR SHARES AND CDQ RESERVE OF BSAI SABLEFISH TACS
[Amounts are in metric tons]
Subarea and gear | Percent of TAC | 2005 Share of TAC | 2005 ITAC¹ | 2005 CDQ reserve | 2006 Share of TAC | 2006 ITAC | 2006 CDQ reserve
Bering Sea |  |  |  |  |  |  |
Trawl² | 50 | 1,209 | 1,028 | 91 | 1,122 | 954 | 84
Hook-and-line/pot gear³ | 50 | 1,209 | ...... | 242 | ...... | ...... | ......
TOTAL | 100 | 2,418 | 1,028 | 332 | 2,244 | 954 | 84
Aleutian Islands |  |  |  |  |  |  |
Trawl² | 25 | 697 | 592 | 52 | 647 | 550 | 49
Hook-and-line/pot gear³ | 75 | 2,093 | ...... | 419 | ...... | ...... | ......
TOTAL | 100 | 2,790 | 592 | 471 | 2,589 | 550 | 49
¹Except for the sablefish hook-and-line or pot gear allocation, 15 percent of TAC is apportioned to the reserve. The ITAC is the remainder of the TAC after the subtraction of these reserves.
²For the portion of the sablefish TAC allocated to vessels using trawl gear, one half of the reserve (7.5 percent of the specified TAC) is reserved for the CDQ program.
³For the portion of the sablefish TAC allocated to vessels using hook-and-line or pot gear, 20 percent of the allocated TAC is reserved for use by CDQ participants. Regulations in § 679.20(b)(1) do not provide for the establishment of an ITAC for sablefish allocated to hook-and-line or pot gear.

Allocation of PSC Limits for Halibut, Crab, Salmon, and Herring

PSC limits for halibut are set in regulations at § 679.21(e). For the BSAI trawl fisheries, the limit is 3,675 mt of Pacific halibut mortality, and for non-trawl fisheries, the limit is 900 mt of mortality. Regulations at § 679.21(e)(1)(vii) specify the 2005 and 2006 proposed chinook salmon PSC limit for the pollock fishery to be 29,000 fish. Regulations at § 679.21(e)(1)(i) allocate 7.5 percent, or 2,175 chinook salmon, as the proposed PSQ for the CDQ program and the remaining 26,825 chinook salmon to the non-CDQ fisheries. If it is approved, Amendment 82 would establish an AI chinook salmon limit of 700 fish, applicable upon the implementation of the final rule for Amendment 82 in early 2005. Regulations at § 679.21(e)(1)(i) would allocate 7.5 percent, or 175 chinook salmon, as the proposed AI PSQ for the CDQ program and the remaining 525 chinook salmon to the non-CDQ fisheries. For non-chinook salmon, regulations at § 679.21(e)(1)(viii) specify the 2005 and 2006 proposed non-chinook salmon PSC limit to be 42,000 fish. Regulations at § 679.21(e)(1)(i) allocate 7.5 percent, or 3,150 non-chinook salmon, as the proposed PSQ for the CDQ program and the remaining 38,850 non-chinook salmon to the non-CDQ fisheries. PSC limits for crab and herring are specified annually based on abundance and spawning biomass. Due to the lack of new information concerning PSC limits and apportionments in October 2004, the Council recommended using the halibut, crab, and herring 2004 PSC amounts for the proposed 2005 and 2006 amounts. The Council will reconsider these amounts in December 2004, based on recommendations by the Plan Team and the SSC.

The red king crab mature female abundance is estimated from the 2003 survey data to be 29.7 million king crab and the effective spawning biomass is estimated to be 60.7 million pounds (27,500 mt). Based on the criteria set out at § 679.21(e)(1)(ii), the 2005 and 2006 proposed PSC limit of red king crab in Zone 1 for trawl gear is 197,000 animals as a result of the mature female abundance being above 8.4 million king crab and of the effective spawning biomass estimate being greater than 55 million pounds (24,948 mt).

Regulations at § 679.21(e)(3)(ii)(B) establish criteria under which NMFS must specify an annual red king crab bycatch limit for the Red King Crab Savings Subarea (RKCSS). The regulations limit the bycatch limits within the RKCSS up to 35 percent of the trawl bycatch allowance specified for the rock sole/flathead sole/“other flatfish” fishery category and are based on the need to optimize the groundfish harvest relative to red king crab bycatch. The Council recommended, and NMFS proposed, a red king crab bycatch limit equal to 35 percent of the trawl bycatch allowance specified for the rock sole/flathead sole/“other flatfish” fishery category within the RKCSS.

Based on 2003 survey data, the Chionoecetes bairdi crab abundance is estimated to be 448.8 million animals. Given the criteria set out at § 679.21(e)(1)(iii), the 2005 and 2006 proposed C. bairdi crab PSC limit for trawl gear is 980,000 animals in Zone 1 and 2,970,000 animals in Zone 2, as a result of the C. bairdi crab abundance estimate of over 400 million animals.

Under § 679.21(e)(1)(iv), the PSC limit for C. opilio crab is based on total abundance as indicated by the NMFS annual bottom trawl survey. The C. opilio crab PSC limit is set at 0.1133 percent of the Bering Sea abundance index. Based on the 2003 survey estimate of 2.63 billion animals, the calculated limit is 2,981,000 animals. Because this limit is less than 4.5 million, under § 679.21(e)(1)(iv)(B), the 2005 and 2006 proposed C. opilio crab PSC limit is 4,350,000 million animals.

Under § 679.21(e)(1)(vi), the proposed PSC limit of Pacific herring caught while conducting any trawl operation for groundfish in the BSAI is 1 percent of the annual eastern Bering Sea herring biomass. NMFS's best estimate of 2004 herring biomass is 187,648 mt. This amount was derived using 2003 survey data and an age-structured biomass projection model developed by the Alaska Department of Fish and Game (ADF&G). Therefore, the proposed herring PSC limit for 2005 and 2006 is 1,876 mt.

Under § 679.21(e)(1)(i), 7.5 percent of each PSC limit specified for crab and halibut is reserved as a PSQ reserve for use by the groundfish CDQ program. Regulations at § 679.21(e)(3) require the apportionment of each trawl PSC limit into PSC bycatch allowances for seven specified fishery categories. Regulations at § 679.21(e)(4)(ii) authorize the apportionment of the non-trawl halibut PSC limit into PSC bycatch allowances for five fishery categories. Table 6 lists the proposed fishery bycatch allowances for the trawl and non-trawl fisheries.

Regulations at § 679.21(e)(4)(ii) authorize exemption of specified non-trawl fisheries from the halibut PSC limit. As in past years, NMFS, after consultation with the Council, is proposing to exempt pot gear, jig gear, and the sablefish IFQ hook-and-line gear fishery categories from halibut bycatch restrictions because these fisheries use selective gear types that take few halibut compared with other gear types, such as non-pelagic trawl. In 2004, total groundfish catch for the pot gear fishery in the BSAI was approximately 17,648 mt, with an associated halibut bycatch mortality of about 9 mt. The 2004 groundfish jig gear fishery harvested about 215 mt of groundfish. Most vessels in the jig gear fleet are less than 60 ft (18.3 m) LOA and are exempt from observer coverage requirements. As a result, observer data are not available on halibut bycatch in the jig gear fishery. However, a negligible amount of halibut bycatch mortality is assumed because of the selective nature of this gear type and the likelihood that halibut caught with jig gear have a high survival rate when released.

As in past years, the Council recommended that the sablefish IFQ fishery be exempt from halibut bycatch restrictions because of the sablefish and halibut IFQ program (subpart D of 50 CFR part 679). The sablefish IFQ program requires legal-sized halibut to be retained by vessels using hook-and-line gear if a halibut IFQ permit holder or his or her hired master is aboard and is holding unused halibut IFQ. NMFS concurs with the Council's recommendation. This provision results in reduced halibut discard in the sablefish fishery. In 1995, about 36 mt of halibut discard mortality was estimated for the sablefish IFQ fishery. The estimates for 1996 through 2004 have not been calculated; however, NMFS has no information indicating that it would be significantly different.

Regulations at § 679.21(e)(5) authorize NMFS, after consultation with the Council, to establish seasonal apportionments of PSC amounts in order to maximize the ability of the fleet to harvest the available groundfish TAC and to minimize bycatch. The factors to be considered are (1) Seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors. The Council recommended seasonal PSC apportionments to maximize harvest among gear types, fisheries, and seasons while minimizing bycatch of PSC based on the above criteria. NMFS concurs with the Council's recommendations. These recommendations are listed in Table 6.

TABLE 6—2005 AND 2006 PROPOSED PROHIBITED SPECIES BYCATCH ALLOWANCES FOR THE BSAI TRAWL AND NON-TRAWL FISHERIES
Trawl Fisheries | Prohibited species and zone: Halibut (mt) BSAI | Prohibited species and zone: Herring (mt) BSAI | Prohibited species and zone: Red King Crab (animals) Zone 1¹ | Prohibited species and zone: C. opilio (animals) COBLZ² | Prohibited species and zone: C. bairdi (animals): Zone 1¹ | Prohibited species and zone: C. bairdi (animals): Zone 2¹
Yellowfin sole | 886 | 171 | 33,843 | 2,776,981 | 340,844 | 1,788,459
January 20 - April 1 | 262 | ...... | ...... | ...... | ...... | ......
April 1 - May 21 | 195 | ...... | ...... | ...... | ...... | ......
May 21 - July 1 | 49 | ...... | ...... | ...... | ...... | ......
July 1 - December 31 | 380 | ...... | ...... | ...... | ...... | ......
Rock sole/other flat/flathead sole⁴ | 779 | 25 | 121,413 | 969,130 | 365,320 | 596,154
January 20 - April 1 | 448 | ...... | ...... | ...... | ...... | ......
April 1 - July 1 | 164 | ...... | ...... | ...... | ...... | ......
July 1 - December 31 | 167 | ...... | ...... | ...... | ...... | ......
Turbot/arrowtooth/sablefish⁵ | ...... | 11 | ...... | 40,238 | ...... | ......
Rockfish | ...... | ...... | ...... | ...... | ...... | ......
July 1 - December 31 | 69 | 9 | ...... | 40,237 | ...... | 10,988
Pacific cod | 1,434 | 25 | 26,563 | 124,736 | 183,112 | 324,176
Midwater trawl pollock | ...... | 1,456 | ...... | ...... | ...... | ......
Pollock/Atka mackerel/other⁶ | 232 | 179 | 406 | 72,428 | 17,224 | 27,473
Red King Crab Savings Subarea³ | ...... | ...... | ...... | ...... | ...... | ......
(non-pelagic trawl) | ...... | 42,495 | ...... | ...... | ...... | ......
Total trawl PSC | 3,400 | 1,876 | 182,225 | 4,023,750 | 906,500 | 2,747,250
Non-trawl Fisheries |  |  |  |  |  |
Pacific cod - Total | 775 |  |  |  |  |
January 1 - June 10 | 320 |  |  |  |  |
June 10 - August 15 | 0 |  |  |  |  |
August 15 - December 31 | 455 |  |  |  |  |
Other non-trawl - Total | 58 |  |  |  |  |
May 1 - December 31 | 58 |  |  |  |  |
Groundfish pot and jig | exempt |  |  |  |  |
Sablefish hook-and-line | exempt |  |  |  |  |
Total non-trawl PSC | 833 |  |  |  |  |
PSQ reserve⁷ | 342 | ...... | 14,775 | 326,250 | 73,500 | 222,750
PSC grand total | 4,575 | 1,876 | 197,000 | 4,350,000 | 980,000 | 2,970,000
¹Refer to § 679.2 for definitions of areas.
²C. opilio Bycatch Limitation Zone. Boundaries are defined at 50 CFR part 679, Figure 13.
³“Other flatfish” for PSC monitoring includes all flatfish species, except for halibut (a prohibited species), greenland turbot, rock sole, yellowfin sole and arrowtooth flounder.
⁴Greenland turbot, arrowtooth flounder, and sablefish fishery category.
⁵Pollock other than pelagic trawl pollock, Atka mackerel, and “other species” fishery category.
⁶With the exception of herring, 7.5 percent of each PSC limit is allocated to the CDQ program as PSQ reserve. The PSQ reserve is not allocated by fishery, gear or season.
⁷In October 2004, the Council recommended that red king crab bycatch for trawl fisheries within the RKCSS be limited to 35 percent of the total allocation to the rock sole/flathead sole/"other flatfish” fishery category (see § 679.21(e)(3)(ii)(B)).

Halibut Discard Mortality Rates

To monitor halibut bycatch mortality allowances and apportionments, the Regional Administrator will use observed halibut bycatch rates, assumed discard mortality rates (DMR), and estimates of groundfish catch to project when a fishery's halibut bycatch mortality allowance or seasonal apportionment is reached. The DMRs are based on the best information available, including information contained in the annual SAFE report.

The Council recommended and NMFS proposes that the recommended halibut DMRs developed by staff of the International Pacific Halibut Commission (IPHC) for the 2004 BSAI groundfish fisheries be used for monitoring halibut bycatch allowances established for the 2005 and 2006 groundfish fisheries (see Table 7). These DMRs were developed by the IPHC using the 10-year mean DMRs for the BSAI non-CDQ groundfish fisheries. Plots of annual DMRs against the 10-year mean indicated little change since 1990 for most fisheries. DMRs were more variable for the smaller fisheries that typically take minor amounts of halibut bycatch. The IPHC will analyze observer data annually and recommend changes to the DMRs where a fishery DMR shows large variation from the mean. The IPHC has been calculating the CDQ fisheries DMRs since 1998 and a 10-year mean is not yet available. The justification for these proposed DMRs is discussed in Appendix A to the final SAFE report dated November 2003. The proposed DMRs listed in Table 7 are subject to change pending the results of an updated analysis on halibut DMRs in the groundfish fisheries that IPHC staff is scheduled to present to the Council at its December 2004 meeting.

TABLE 7—2005 AND 2006 PROPOSED ASSUMED PACIFIC HALIBUT DISCARD MORTALITY RATES FOR THE BSAI FISHERIES
| Fishery | Preseason assumed mortality (percent)
Hook-and-line gear fisheries |
| Greenland turbot | 15
| Other Species | 11
| Pacific cod | 11
| Rockfish | 16
Trawl gear fisheries |
| Atka mackerel | 78
| Flathead sole | 67
| Greenland turbot | 72
| Non-pelagic pollock | 76
| Pelagic pollock | 85
| Other flatfish | 71
| Other species | 67
| Pacific cod | 68
| Rockfish | 74
| Rock sole | 77
| Sablefish | 49
| Yellowfin sole | 78
Pot gear fisheries |
| Other species | 8
| Pacific cod | 8
CDQ trawl fisheries |
| Atka mackerel | 85
| Flathead sole | 90
| Non-pelagic pollock | 85
| Pelagic pollock | 89
| Rockfish | 90
| Yellowfin sole | 82
CDQ hook-and-line fisheries |
| Greenland turbot | 4
| Pacific cod | 11
CDQ pot fisheries |
| Pacific cod | 2
| Sablefish | 36

Bering Sea Subarea Inshore Pollock Allocations

Regulations at § 679.4(l) set forth procedures for AFA inshore catcher vessel pollock cooperatives to apply for and receive cooperative fishing permits and inshore pollock allocations. For 2004, NMFS received applications from seven inshore catcher vessel cooperatives. Applications for 2005 must be received by the Regional Administrator by December 1, 2004. Table 8 lists the proposed pollock allocations to the seven inshore catcher vessel pollock cooperatives based on 2004 cooperative allocations and the assumption that the cooperatives' membership will remain unchanged in 2005 and 2006. Allocations for cooperatives and vessels not participating in cooperatives are not made for the AI subarea because the AI subarea has been closed to directed fishing for pollock and the CAA requires the non-CDQ directed pollock fishery to be fully allocated to the Aleut Corporation. The Bering Sea subarea allocations may be revised pending adjustments to cooperatives' membership prior to 2005 and 2006.

TABLE 8—2005 AND 2006 PROPOSED BERING SEA SUBAREA INSHORE COOPERATIVE ALLOCATIONS
[Amounts are in metric tons]
Cooperative name and member vessels | Sum of member vessel's official catch histories¹ (mt) | Percentage of inshore sector allocation | 2005 Annual co-op allocation (mt) | 2006 Annual co-op allocation (mt)
Akutan Catcher Vessel Association ALDEBARAN, ARCTIC EXPLORER, ARCTURUS, BLUE FOX, CAPE KIWANDA, COLUMBIA, DOMINATOR, EXODUS, FLYING CLOUD, GOLDEN DAWN, GOLDEN PISCES, HAZEL LORRAINE, INTREPID EXPLORER, LESLIE LEE, LISA MELINDA, MAJESTY, MARCY J, MARGARET LYN, MARK I, NORDIC EXPLORER, NORTHERN PATRIOT, NORTHWEST EXPLORER, PACIFIC RAM, PACIFIC VIKING, PEGASUS, PEGGY JO, PERSEVERANCE, PREDATOR, RAVEN, ROYAL AMERICAN, SEEKER, SOVEREIGNTY, TRAVELER, VIKING EXPLORER | 245,922 | 28.130% | 180,110 | 180,055
Arctic Enterprise Association BRISTOL EXPLORER, OCEAN EXPLORER, PACIFIC EXPLORER | 36,807 | 4.210% | 26,957 | 26,948
Northern Victor Fleet Cooperative ANITA J, COLLIER BROTHERS, COMMODORE, EXCALIBUR II, GOLDRUSH, HALF MOON BAY, MISS BERDIE, NORDIC FURY, PACIFIC FURY, POSEIDON, ROYAL ATLANTIC, SUNSET BAY, STORM PETREL | 73,656 | 8.425% | 53,945 | 53,929
Peter Pan Fleet Cooperative AJ, AMBER DAWN, AMERICAN BEAUTY, ELIZABETH F, MORNING STAR, OCEAN LEADER, OCEANIC, PROVIDIAN, TOPAZ, WALTER N | 23,850 | 2.728% | 17,467 | 17,462
Unalaska Cooperative ALASKA ROSE, BERING ROSE, DESTINATION, GREAT PACIFIC, MESSIAH, MORNING STAR, MS AMY, PROGRESS, SEA WOLF, VANGUARD, WESTERN DAWN | 106,737 | 12.209% | 78,173 | 78,149
UniSea Fleet Cooperative ALSEA, AMERICAN EAGLE, ARGOSY, AURIGA, AURORA, DEFENDER, GUN-MAR, MAR-GUN, NORDIC STAR, PACIFIC MONARCH, SEADAWN, STARFISH, STARLITE, STARWARD | 213,521 | 24.424% | 156,380 | 156,333
Westward Fleet Cooperative ALASKAN COMMAND, ALYESKA, ARCTIC WIND, CAITLIN ANN, CHELSEA K, DONA MARTITA, FIERCE ALLEGIANCE, HICKORY WIND, OCEAN HOPE 3, PACIFIC KNIGHT, PACIFIC PRINCE, VIKING, WESTWARD I | 189,942 | 21.727% | 139,111 | 139,069
Open access AFA vessels | 0 | 0% | 0 | 0
Total inshore allocation | 874,238 | 100% | 640,280 | 640,085
¹According to regulations at § 679.62(e)(1), the individual catch history for each vessel is equal to the vessel's best 2 of 3 years inshore pollock landings from 1995 through 1997 and includes landings to catcher/processors for vessels that made 500 or more mt of landings to catcher/processors from 1995 through 1997.

According to regulations at § 679.20(a)(5)(i)(A)(3), NMFS must further divided the inshore sector allocation into allocations for cooperatives and for inshore open access. In addition, according to regulations at § 679.22(a)(7)(vii), NMFS must establish harvest limits inside the SCA and provide a set-aside so that catcher vessels less than or equal to 99 ft (30.2 m) LOA have the opportunity to operate entirely within the SCA until April 1. Accordingly, Table 9 lists the proposed apportionment of the Bering Sea subarea inshore pollock allocation into allocations for vessels fishing in a cooperative and for vessels fishing for the inshore open access allocation and establishes a cooperative-sector SCA set-aside for AFA catcher vessels less than or equal to 99 ft (30.2 m) LOA. The SCA set-aside for catcher vessels less than or equal to 99 ft (30.2 m) LOA that are not participating in a cooperative will be established inseason based on actual participation levels and is not included in Table 9. These proposed allocations may be revised pending final review and approval of 2005 and 2006 cooperative agreements.

TABLE 9—2005 AND 2006 PROPOSED BERING SEA SUBAREA POLLOCK ALLOCATIONS TO THE COOPERATIVE AND OPEN ACCESS SECTORS OF THE INSHORE POLLOCK FISHERY
[Amounts are in metric tons]
| 2005 A season TAC | 2005 A season inside SCA¹ | 2005 B season TAC | 2006 A season TAC | 2006 A season inside SCA | 2006 B season TAC
Inshore cooperative sector |  |  |  |  |  |
Vessels > 99 ft | n/a | 153,969 | n/a | n/a | 153,923 | n/a
Vessels ≤ 99 ft | n/a | 25,309 | n/a | n/a | 25,301 | n/a
Total | 256,112 | 179,278 | 384,168 | 256,034 | 179,224 | 384,051
Open access sector | 0 | 0² | 0 | 0 | 0² | 0
Total inshore | 256,112 | 179,278 | 384,168 | 256,034 | 179,224 | 384,051
¹The Steller sea lion conservation area (SCA) established at § 679.22(a)(7)(vii).
²The SCA limitations for vessels less than or equal to 99 ft LOA that are not participating in a cooperative will be established on an inseason basis in accordance with § 679.22(a)(7)(vii)(C)(2) which specifies that “the Regional Administrator will prohibit directed fishing for pollock by vessels greater than 99 ft (30.2 m) LOA, catching pollock for processing by the inshore component before reaching the inshore SCA harvest limit before April 1 to accommodate fishing by vessels less than or equal to 99 ft (30.2 m) inside the SCA until April 1.”

Listed AFA Catcher/Processor Sideboard Limits

According to regulations at § 679.64(a), the Regional Administrator will restrict the ability of listed AFA catcher/processors to engage in directed fishing for groundfish species other than pollock to protect participants in other groundfish fisheries from adverse effects resulting from the AFA and from fishery cooperatives in the directed pollock fishery. The basis for these sideboard limits is described in detail in the final rule implementing major provisions of the AFA (67 FR 79692, December 30, 2002). Table 10 lists the 2005 and 2006 proposed catcher/processor sideboard limits.

All groundfish other than pollock that are harvested by listed AFA catcher/processors, whether as targeted catch or incidental catch, will be deducted from the proposed sideboard limits in Table 10. However, groundfish other than pollock that are delivered to listed catcher/processors by catcher vessels will not be deducted from the 2005 and 2006 proposed sideboard limits for the listed catcher/processors.

TABLE 10—2005 AND 2006 PROPOSED LISTED BSAI AMERICAN FISHERIES ACT CATCHER/PROCESSOR GROUNDFISH SIDEBOARD LIMITS
[Amounts are in metric tons]
Target species | Area | 1995 - 1997: Retained catch | 1995 - 1997: Total catch | 1995 - 1997: Ratio of retained catch to total catch | 2005 Proposed ITAC available to trawl C/Ps | 2005 Proposed C/P sideboard limit | 2006 Proposed ITAC available to trawl C/Ps | 2006 Proposed C/P sideboard limit
Pacific cod trawl | BSAI | 12,424 | 48,177 | 0.258 | 43,136 | 11,129 | 43,046 | 11,106
Sablefish trawl | BS | 8 | 497 | 0.016 | 1,028 | 16 | 954 | 15
| AI | 0 | 145 | 0.000 | 592 | 0 | 550 | 0
Atka mackerel | Western AI | ...... | ...... | ...... | ...... | ...... | ...... | ......
| A season¹ | n/a | n/a | 0.200 | 8,781 | 1,756 | 8,781 | 1,756
| HLA limit² | ...... | ...... | ...... | 5,269 | 1,054 | 5,269 | 1,054
| B season | n/a | n/a | 0.200 | 8,781 | 1,756 | 8,781 | 1,756
| HLA limit | ...... | ...... | ...... | 5,269 | 1,054 | 5,269 | 1,054
| Central AI | ...... | ...... | ...... | ...... | ...... | ...... | ......
| A season¹ | n/a | n/a | 0.115 | 13,218 | 1,520 | 13,218 | 1,520
| HLA limit | ...... | ...... | ...... | 7,931 | 912 | 7,931 | 912
| B season | n/a | n/a | 0.115 | 13,218 | 1,520 | 13,218 | 1,520
| HLA limit | ...... | ...... | ...... | 7,931 | 912 | 7,931 | 912
Yellowfin sole | BSAI | 100,192 | 435,788 | 0.230 | 73,164 | 16,828 | 73,164 | 16,828
Rock sole | BSAI | 6,317 | 169,362 | 0.037 | 35,233 | 1,304 | 34,850 | 1,289
Greenland turbot | BS | 121 | 17,305 | 0.007 | 2,295 | 16 | 2,295 | 16
| AI | 23 | 4,987 | 0.005 | 680 | 3 | 680 | 3
Arrowtooth flounder | BSAI | 76 | 33,987 | 0.002 | 10,200 | 20 | 10,200 | 20
Flathead sole | BSAI | 1,925 | 52,755 | 0.036 | 16,150 | 581 | 16,150 | 581
Alaska plaice | BSAI | 14 | 9,438 | 0.001 | 8,500 | 9 | 8,500 | 9
Other flatfish | BSAI | 3,058 | 52,298 | 0.058 | 2,550 | 148 | 2,550 | 148
Pacific ocean perch | BS | 12 | 4,879 | 0.002 | 1,635 | 3 | 1,655 | 3
| Western AI | 54 | 13,598 | 0.004 | 3,957 | 16 | 4,006 | 16
| Central AI | 3 | 5,698 | 0.001 | 2,257 | 2 | 2,286 | 2
| Eastern AI | 6,179 | 125 | 0.020 | 2,369 | 47 | 2,398 | 48
Northern rockfish | BSAI | 91 | 13,040 | 0.007 | 4,250 | 30 | 4,250 | 30
Shortraker rockfish | BSAI | 50 | 2,811 | 0.018 | 447 | 8 | 447 | 8
Rougheye rockfish | BSAI | 50 | 2,811 | 0.018 | 166 | 3 | 166 | 3
Other rockfish | BS | 18 | 621 | 0.029 | 391 | 11 | 391 | 11
| AI | 22 | 806 | 0.027 | 539 | 15 | 539 | 15
Squid | BSAI | 73 | 3,328 | 0.022 | 1,084 | 24 | 1,084 | 24
Other species | BSAI | 553 | 68,672 | 0.008 | 23,124 | 185 | 23,124 | 185
¹The seasonal apportionment of Atka mackerel in the open access fishery is 50 percent in the A season and 50 percent in the B season. Listed AFA catcher/processors are limited to harvesting no more than zero in the Eastern Aleutian District and Bering Sea subarea, 20 percent of the annual TAC specified for the Western Aleutian District, and 11.5 percent of the annual TAC specified for the Central Aleutian District.
²Harvest Limit Area (HLA) limit refers to the amount of each seasonal allowance that is available for fishing inside the HLA (see § 679.2). In 2005 and 2006, 60 percent of each seasonal allowance is available for fishing inside the HLA in the Western and Central Aleutian Districts.

Regulations at § 679.64(a)(5) establish a formula for PSC sideboard limits for listed AFA catcher/processors. These amounts are equivalent to the percentage of PSC amounts taken in the groundfish fisheries other than pollock by the AFA catcher/processors listed in subsection 208(e) and section 209 of the AFA from 1995 through 1997 (see Table 10). These amounts were used to calculate the relative amount of PSC that was caught by pollock catcher/processors shown in Table 10. The 2005 and 2006 PSC limits available to trawl catcher/processors are multiplied by the ratios to determine the PSC sideboard limits for listed AFA catcher/processors in the 2005 and 2006 groundfish fisheries other than pollock.

PSC that is caught by listed AFA catcher/processors participating in any groundfish fishery other than pollock listed in Table 11 would accrue against the 2005 and 2006 proposed PSC limits for the listed AFA catcher/processors. Regulations at § 679.21(e)(3)(v) authorize NMFS to close directed fishing for groundfish other than pollock for listed AFA catcher/processors once a 2005 and 2006 proposed PSC limit listed in Table 11 is reached.

Crab or halibut PSC that is caught by listed AFA catcher/processors while fishing for pollock will accrue against the bycatch allowances annually specified for either the midwater pollock or the pollock/Atka mackerel/“other species” fishery categories according to regulations at § 679.21(e)(3)(iv).

TABLE 11—2005 AND 2006 PROPOSED BSAI AMERICAN FISHERIES ACT LISTED CATCHER/PROCESSOR PROHIBITED SPECIES SIDEBOARD LIMITS¹
PSC species | 1995 - 1997: PSC catch | 1995 - 1997: Total PSC | 1995 - 1997: Ratio of PSC catch to total PSC | 2005 and 2006 Proposed PSC available to trawl vessels | 2005 and 2006 Proposed C/P sideboard limit
Halibut mortality | 955 | 11,325 | 0.084 | 3,400 | 286
Red king crab | 3,098 | 473,750 | 0.007 | 182,225 | 1,276
C. opilio | 2,323,731 | 15,139,178 | 0.153 | 4,023,750 | 615,634
C. bairdi | ...... | ...... | ...... | ...... | ......
Zone 1 | 385,978 | 2,750,000 | 0.140 | 906,500 | 126,910
Zone 2 | 406,860 | 8,100,000 | 0.050 | 2,747,250 | 137,363
¹Halibut amounts are in metric tons of halibut mortality. Crab amounts are in numbers of animals.

AFA Catcher Vessel Sideboard Limits

According to regulations at § 679.64(b), the Regional Administrator restricts the ability of AFA catcher vessels to engage in directed fishing for groundfish species other than pollock to protect participants in other groundfish fisheries from adverse effects resulting from the AFA and from fishery cooperatives in the directed pollock fishery. Regulations at § 679.64(b) establish formulas for setting AFA catcher vessel groundfish and PSC sideboard limits for the BSAI. The basis for these sideboard limits is described in detail in the final rule implementing major provisions of the AFA (67 FR 79692, December 30, 2002). Tables 12 and 13 list the 2005 and 2006 proposed catcher vessel sideboard limits.

All harvests of groundfish sideboard species made by non-exempt AFA catcher vessels, whether as targeted catch or as incidental catch, will be deducted from the 2005 and 2006 proposed sideboard limits listed in Table 12.

TABLE 12—2005 AND 2006 PROPOSED BSAI AMERICAN FISHERIES ACT CATCHER VESSEL SIDEBOARD LIMITS
[Amounts are in metric tons]
Species | Fishery by area/season/processor/gear | Ratio of 1995-1997 AFA CV catch to 1995-1997 TAC | 2005 Proposed initial TAC | 2005 Proposed catcher vessel sideboard limits | 2006 Proposed initial TAC | 2006 Proposed catcher vessel sideboard limits
Pacific cod | BSAI | ...... | ...... | ...... | ...... | ......
| Jig gear | 0.0000 | 3,671 | 0 | 3,664 | 0
| Hook-and-line CV | ...... | ...... | ...... | ...... | ......
| Jan 1 - Jun 10 | 0.0006 | 167 | 0 | 167 | 0
| Jun 10 - Dec 31 | 0.0006 | 112 | 0 | 112 | 0
| Pot gear CV | ...... | ...... | ...... | ...... | ......
| Jan 1 - Jun 10 | 0.0006 | 8,380 | 5 | 8,363 | 5
| Sept 1 - Dec 31 | 0.0006 | 5,587 | 3 | 5,575 | 3
| CV < 60 feet LOA using hook-and-line or pot gear | 0.0006 | 1,304 | 1 | 1,301 | 1
| Trawl gear CV | ...... | ...... | ...... | ...... | ......
| Jan 20 - Apr 1 | 0.8609 | 30,195 | 25,995 | 30,132 | 25,941
| Apr 1 - Jun 10 | 0.8609 | 4,314 | 3,323 | 4,305 | 3,316
| Jun 10 - Nov 1 | 0.8609 | 8,627 | 6,645 | 8,609 | 6,632
Sablefish | BS trawl gear | 0.0906 | 1,028 | 93 | 952 | 86
| AI trawl gear | 0.0645 | 593 | 38 | 550 | 35
Atka mackerel | Eastern AI/BS | ...... | ...... | ...... | ...... | ......
| Jig gear | 0.0031 | 96 | 0 | 96 | 0
| Other gear | ...... | ...... | ...... | ...... | ......
| Jan 1 - Apr 15 | 0.0032 | 4,729 | 15 | 4,729 | 15
| Sept 1 - Nov 1 | 0.0032 | 4,729 | 15 | 4,729 | 15
| Central AI | ...... | ...... | ...... | ...... | ......
| Jan - Apr 15 | 0.0001 | 13,218 | 1 | 13,218 | 1
| HLA limit | 0.0001 | 7,931 | 1 | 7,931 | 1
| Sept 1 - Nov 1 | 0.0001 | 13,218 | 1 | 13,218 | 1
| HLA limit | 0.0001 | 7,931 | 1 | 7,931 | 1
| Western AI | ...... | ...... | ...... | ...... | ......
| Jan - Apr 15 | 0.0000 | 8,781 | 0 | 8,781 | 0
| HLA limit | ...... | 5,269 | 0 | 5,269 | 0
| Sept 1 - Nov 1 | 0.0000 | 8,781 | 0 | 8,781 | 0
| HLA limit | ...... | 5,269 | 0 | 5,269 | 0
Yellowfin sole | BSAI | 0.0647 | 73,164 | 4,734 | 73,164 | 4,734
Rock sole | BSAI | 0.0341 | 35,233 | 1,201 | 34,850 | 1,188
Greenland Turbot | BS | 0.0645 | 2,295 | 148 | 2,295 | 148
| AI | 0.0205 | 680 | 14 | 680 | 14
Arrowtooth flounder | BSAI | 0.0690 | 10,200 | 704 | 10,200 | 704
Alaska plaice | BSAI | 0.0441 | 8,500 | 375 | 8,500 | 375
Other flatfish | BSAI | 0.0441 | 2,550 | 112 | 2,550 | 112
Pacific ocean perch | BS | 0.1000 | 1,635 | 164 | 1,655 | 166
| Eastern AI | 0.0077 | 2,369 | 18 | 2,369 | 18
| Central AI | 0.0025 | 2,257 | 6 | 2,286 | 6
| Western AI | 0.0000 | 3,957 | 0 | 4,006 | 0
Northern rockfish | BSAI | 0.0084 | 4,250 | 36 | 4,250 | 36
Shortraker rockfish | BSAI | 0.0037 | 447 | 2 | 447 | 2
Rougheye rockfish | BSAI | 0.0037 | 166 | 1 | 166 | 1
Other rockfish | BS | 0.0048 | 391 | 2 | 391 | 2
| AI | 0.0095 | 539 | 5 | 539 | 5
Squid | BSAI | 0.3827 | 1,084 | 415 | 1,084 | 415
Other species | BSAI | 0.0541 | 23,124 | 1,251 | 23,124 | 1,251
Flathead Sole | BS trawl gear | 0.0505 | 16,150 | 816 | 16,150 | 816

The AFA catcher vessel PSC limits for halibut and crab species in the BSAI for which a trawl bycatch limit has been established will be a portion of the PSC limit equal to the ratio of aggregate retained groundfish catch by AFA catcher vessels in each PSC target category from 1995 through 1997 relative to the retained catch of all vessels in that fishery from 1995 through 1997. Table 13 lists the 2005 and 2006 proposed PSC sideboard limits for AFA catcher vessels.

Halibut and crab PSC caught by AFA catcher vessels participating in any fishery for groundfish other than pollock listed in Table 13 will accrue against the 2005 and 2006 proposed PSC sideboard limits for the AFA catcher vessels. Regulations at § 679.21(d)(8) and (e)(3)(v) provide authority to close directed fishing for groundfish other than pollock for AFA catcher vessels once a 2005 and 2006 proposed PSC sideboard limit listed in Table 13 is reached. The PSC by AFA catcher vessels, while fishing for pollock in the BSAI, will accrue against the bycatch allowances annually specified for either the midwater pollock or the pollock/Atka mackerel/“other species” fishery categories under regulations at § 679.21(e)(3)(iv).

TABLE 13—2005 AND 2006 PROPOSED AMERICAN FISHERIES ACT CATCHER VESSEL PROHIBITED SPECIES CATCH SIDEBOARD LIMITS FOR THE BSAI¹
[Amounts are in metric tons]
PSC species | Target fishery category² | Ratio of 1995-1997 AFA CV retained catch to total retained catch | 2005 and 2006 Proposed PSC limit | 2005 and 2006 Proposed AFA catcher vessel PSC sideboard limit
Halibut | Pacific cod trawl | 0.6183 | 1,434 | 887
| Pacific cod hook-and-line or pot | 0.0022 | 775 | 2
| Yellowfin sole | 0.1144 | 886 | 101
| Rock sole/flathead sole/other flatfish⁵ | 0.2841 | 779 | 221
| Turbot/Arrowtooth/Sablefish | 0.2327 | 0 | 0
| Rockfish (July 1 - December 31) | 0.0245 | 69 | 2
| Pollock/Atka mackerel/other species | 0.0227 | 232 | 5
Red King Crab | Pacific cod | 0.6183 | 26,563 | 16,424
Zone 1⁴ | Yellowfin sole | 0.1144 | 33,843 | 3,872
| Rock sole/flathead sole/other flatfish⁵ | 0.2841 | 121,413 | 34,493
| Pollock/Atka mackerel/other species | 0.0227 | 406 | 9
C. opilio | Pacific cod | 0.6183 | 124,736 | 77,124
COBLZ³ | Yellowfin sole | 0.1144 | 2,776,981 | 317,687
| Rock sole/flathead sole/other flatfish⁵ | 0.2841 | 969,130 | 275,330
| Pollock/Atka mackerel/other species | 0.0227 | 72,428 | 1,644
| Rockfish | 0.0245 | 40,237 | 986
| Turbot/Arrowtooth/Sablefish | 0.2327 | 40,238 | 9,363
C. bairdi | Pacific cod | 0.6183 | 183,112 | 113,218
Zone 1 | Yellowfin sole | 0.1144 | 340,844 | 38,993
| Rock sole/flathead sole/other flatfish⁵ | 0.2841 | 365,320 | 103,787
| Pollock/Atka mackerel/other species | 0.0227 | 17,224 | 391
C. bairdi | Pacific cod | 0.6183 | 324,176 | 200,438
Zone 2 | Yellowfin sole | 0.1144 | 1,788,459 | 204,600
| Rock sole/flathead sole/other flatfish⁵ | 0.2841 | 596,154 | 169,367
| Pollock/Atka mackerel/other species | 0.0227 | 27,473 | 624
| Rockfish | 0.0245 | 10,988 | 269
¹Halibut amounts are in metric tons of halibut mortality. Crab amounts are in numbers of animals.
²Target fishery categories are defined in regulation at § 679.21(e)(3)(iv).
³C. opilio Bycatch Limitation Zone. Boundaries are defined at Figure 13 of 50 CFR part 679.
⁴In October 2004, the Council recommended that red king crab bycatch for trawl fisheries within the RKCSS be limited to 35 percent of the total allocation to the rock sole/flathead sole/“other flatfish” fishery category (see § 679.21(e)(3)(ii)(B)).
⁵“Other flatfish” for PSC monitoring includes all flatfish species, except for halibut (a prohibited species), Greenland turbot, rock sole, yellowfin sole, arrowtooth flounder.

Classification

NMFS has determined that the proposed specifications are consistent with the FMP and preliminarily determined that the proposed specifications are consistent with the Magnuson-Stevens Act and other applicable laws.

This action is authorized under 50 CFR 679.20 and is exempt from review under Executive Order 12866.

An IRFA was prepared to evaluate the impacts of the 2005 and 2006 proposed harvest specifications on directly regulated small entities. This IRFA is intended to meet the statutory requirements of the Regulatory Flexibility Act (RFA). The reason for the action, a statement of the objective of the action and the legal basis are discussed in the preamble and are not repeated here.

The 2005 and 2006 harvest specifications establish harvest limits for the groundfish species and species groups in the BSAI. This action is necessary to allow fishing in 2005 and 2006. About 807 small catcher vessels, 23 small catcher/processors, and 6 small private non-profit CDQ groups may be directed regulated by these specifications.

The IRFA examined the impacts of the preferred alternative on small entities within fisheries defined by the harvest of species groups whose TACs might be affected by the specifications. The IRFA identified adverse impacts on small fishing operations harvesting for sablefish and Pacific ocean perch and on CDQ groups in the BSAI.

In the BSAI, 36 small Pacific ocean perch catcher vessels and catcher-processors, with average gross revenues of $1.8 million, would have a gross revenue reduction of a maximum of ⅓ of 1 percent; 63 small sablefish catcher vessels and catcher-processors, with average gross revenues of about $700,000, would have gross revenue reductions of a maximum of 6 percent; and the 6 CDQ groups, with estimated average 2004 gross revenues of about $19.5 million, would have gross revenue reductions of 2/10 of a percent.

Please refer to the IRFA for a fuller explanation of impacts on small entities. A copy of the IRFA is available from NMFS (see ADDRESSES).

This regulation does not impose new recordkeeping or reporting requirements on the regulated small entities. This analysis did not reveal any Federal rules that duplicate, overlap, or conflict with the proposed action.

This analysis examined four alternatives to the preferred alternative. These included alternatives that set TACs to produce fishing rates equal to maxFABC, ½maxFABC, the recent 5 year average F, and zero. Only one of these alternatives, setting TACs to produce fishing rates of maxFABC, would potentially have a smaller adverse impact on small entities than the preferred alternative. This alternative is associated with larger gross revenues for the BSAI fisheries. Many of the vessels identified above would share in these gross revenues. However, the maxFABC is a fishing rate which may, and often does, exceed biologically recommended ABCs. For the sablefish and Pacific ocean perch fisheries described above, the preferred alternative, which produces fishing rates less than maxFABC, sets TACs equal to projected annual ABCs. In addition, the preferred alternative TACs for “other rockfish” in the Aleutian Islands subarea, rougheye rockfish, and shortraker rockfish, also equals the ABC. The increases in TACs related to producing fishing rates of maxFABC would not be consistent with biologically prudent fishery management because they do not fall within the scientifically determined ABC.

Authority: Authority: 16 U.S.C. 773 et seq., 1801 et seq., and 3631 et seq.; 16 U.S.C. 1540(f); Pub. L. 105 277, Title II of Division C; Pub L. 106 31, Sec. 3027; Pub L. 106 554, Sec. 209; and Pub. L. 108-199, Sec. 803.

Dated: December 3, 2004.
William T. Hogarth
Assistant Administrator for Fisheries, National Marine Fisheries Service.

[FR Doc. 04-26952 Filed 12-7-04; 8:45 am]

BILLING CODE 3510-22-S